DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing an update to the identifying information of a person currently included in the list of Specially Designated Nationals and Blocked Persons. All property and interests in property subject to U.S. jurisdiction of these persons are blocked, and U.S. persons are generally prohibited from engaging in transactions with them.

DATES: See Supplementary Information section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On September 7, 2018, OFAC updated the Specially Designated Nationals and Blocked Persons List entry for the following person, whose property and interests in property subject to U.S. jurisdiction continue to be blocked.

Individual

1. SARRIA DIAZ, Rafael Alfredo (a.k.a. SARRIA, Rafael; a.k.a. SARRIA-DIAZ, Rafael A), Miranda, Venezuela; La Moraleja, Madrid, Spain; 5599 NW 23rd Ave., Boca Raton, FL 33496, United States; 480 Park Avenue, Apt. 10B, New York, NY 10022, United States; Calle de la Pena Pintada, 11, Madrid, Comunidad de Madrid 28034, Spain; Calle Los Malabares, Quinta Anauco, Valle Arriba, Caracas, Miranda 1080, Venezuela; DOB 11 Nov 1965; Gender Male; Cedula No. 6974302 (Venezuela); Passport 114910699 (Venezuela) expires 02 Feb 2020; alt. Passport F0018546 (Venezuela) expires 02 Jul 2014 (individual) [VENEZUELA] (Linked To: CABELLO RONDON, Diosdado).

Dated: September 7, 2018.
Andrea M. Gacki,
Acting Director, Office of Foreign Assets Control.

[FR Doc. 2018-19817 Filed 9-11-18; 8:45 am]

BILLING CODE 4810-AL-P